DEPARTMENT OF ENERGY

Federal Energy Regulatory Commission

[Docket No. CP18-6-000]

RH energytrans, LLC; Notice of Schedule for Environmental Review of the Risberg Line Project

On October 16, 2017, RH energytrans, LLC filed an application in Docket No. CP18-6-000 requesting a Certificate of Public Convenience and Necessity pursuant to section 7(c) of the Natural Gas Act to construct and operate certain natural gas pipeline facilities. The proposed project is known as the Risberg Line Project (Project), and would deliver up to 55,000 dekatherms per day of firm natural gas transportation service to Dominion Energy Ohio and other prospective customers.

On October 26, 2017, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—June 29, 2018

90-Day Federal Authorization Decision Deadline—September 27, 2018

If a schedule change becomes necessary, additional notice will be provided so that the relevant agencies are kept informed of the Project's progress.

Project Description

RH energytrans, LLC's Risberg Line Project would involve modification and recertification of existing facilities and installation of new facilities. Activities associated with the modification and the recertification of existing facilities would include:

• Modifications at the existing County Line Compressor Station in Erie County, Pennsylvania;

• conversion of an existing 26.6-mile-long, 12-inch-diameter gathering pipeline to natural gas transmission service in Crawford and Erie Counties, Pennsylvania; and

• conversion of an existing 5.0-mile-long, 8-inch-diameter gathering pipeline to natural gas transmission service in Erie County, Pennsylvania.

New facilities that RH energytrans, LLC proposes to construct include:

• Meadville Compressor Station in Crawford County, Pennsylvania, including one 728 horsepower natural gas-fired reciprocating compressor unit;

• 650-foot-long, 12-inch-diameter lateral pipeline within the existing 12-inch-diameter gathering pipeline right-of-way;

• 28.3-mile-long, 12-inch-diameter pipeline in Erie County, Pennsylvania and Ashtabula County, Ohio (Risberg Pipeline); and

• North Kingsville Meter Station in Ashtabula County, Ohio.

Background

On November 21, 2017, the Commission issued a Notice of Intent to Prepare an Environmental Assessment for the Proposed Risberg Line Project and Request for Comments on Environmental Issues (NOI). The NOI was sent to affected landowners; federal, state, and local government agencies; elected officials; environmental and public interest groups; Native American tribes; other interested parties; and local libraries and newspapers. In response to the NOI, the Commission received comments from the U.S. Fish and Wildlife Service, Ohio Department of Natural Resources, and 29 individuals. A number of individuals submitted more than one comment. The comments included a variety of topics such as water resources, wetlands, vegetation, wildlife, land use, recreation, and socioeconomics, air quality and noise, reliability and safety, and alternatives.

The U.S. Army Corps of Engineers and Pennsylvania Fish and Boat Commission are cooperating agencies in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP18-6-000), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: May 1, 2018.
Kimberly D. Bose,
Secretary.

[FR Doc. 2018-09712 Filed 5-7-18; 8:45 am]

BILLING CODE 6717-01-P